Proclamation 10568 of April 28, 2023

Law Day, U.S.A., 2023

By the President of the United States of America

A Proclamation

When our Founding Fathers convened to write the Constitution over 235 years ago, they set in motion an experiment that changed the world. America would not be a land of kings but a Nation of laws. Since then, generations of Americans have worked to defend and improve our laws, hold accountable those who break or undermine them, and ensure equal rights and protections for all. On Law Day, we celebrate the rule of law and rededicate ourselves to the pursuit of a more perfect Union.

Our Nation and world are at an inflection point. At home and around the globe, autocrats and dictators threaten the rule of law. Our democracy is under strain, with people's rights, including the sacred right to vote, at risk. We face a choice between moving backward—unravelling so much of the progress our Nation has made—or moving forward toward a future of possibilities and promise.

We must choose to move forward. That is why my Administration is protecting the right to vote—the right from which all others flow, including the power to establish our Nation's laws. Since taking office, I have issued an Executive Order promoting access to voter registration and election information, and signed into law the Electoral Count Reform Act, which establishes clear guidelines for certifying and counting electoral votes to help preserve the will of the people against future attempts to overturn our elections. The Department of Justice has also strengthened its ability to fight unlawful voter suppression in the courts. I continue to call on the Congress to pass the Freedom to Vote Act and the John Lewis Voting Rights Advancement Act to further strengthen our democracy.

Respecting the rule of law also means supporting equal access to justice. My Administration reestablished the Department of Justice's Office for Access to Justice to help ensure that all Americans, regardless of wealth or status, have quality legal aid when they need it and to remove barriers—including language barriers—that prevent people from understanding and navigating the legal system.

We are also working to ensure that hate has no safe harbor in America. I signed the bipartisan COVID-19 Hate Crimes Act into law, making it easier to report hate crimes and helping State, local, and Tribal law enforcement agencies better track these crimes. I secured the largest-ever increase in funding for the physical security of nonprofits, including churches, gurdwaras, mosques, synagogues, temples, and other houses of worship. I convened the first-ever White House Summit on combating hate-fueled violence, bringing together stakeholders from around the country to reaffirm that nobody should fear going to a religious service, wearing a symbol of their faith, or simply being who they are. And I established a new interagency group to counter antisemitism, Islamophobia, and related forms of bias and discrimination within the United States.

The United States is standing up for the rule of law around the world. We will continue to marshal security, humanitarian, and economic support for Ukraine as they defend themselves against Russia's unjust war, which is also an attack on the bedrock principle of sovereignty. To support democracy worldwide, I cohosted the second Summit for Democracy in March, bringing together government, civil society, and private sector representatives from around the world to promote transparent and accountable governance, democratic resilience, and respect for human rights. We must support free and independent media, fight the corruption that undermines democratic institutions, ensure new technology is used to strengthen democracy, and defend free and fair elections.

The theme of this year's Law Day, “Cornerstones of Democracy: Civics, Civility, and Collaboration,” acknowledges that each of us has a role to play in defending democracy and the guardrails that make it possible. It also recognizes that the rule of law depends on us seeing one another not as enemies but as fellow Americans. This great national experiment only works if we respect each other's differences, protect each other's freedoms, and work together to ensure that “We, the People,” get to choose our own fate and make our own future.

NOW, THEREFORE, I, JOSEPH R. BIDEN JR., President of the United States of America, in accordance with Public Law 87-20, as amended, do hereby proclaim May 1, 2023, as Law Day, U.S.A. I call upon all Americans to acknowledge the importance of our Nation's legal and judicial systems with appropriate ceremonies and activities and to display the flag of the United States in support of this national observance.

IN WITNESS WHEREOF, I have hereunto set my hand this twenty-eighth day of April, in the year of our Lord two thousand twenty-three, and of the Independence of the United States of America the two hundred and forty-seventh.

[FR Doc. 2023-09540

Filed 5-2-23; 8:45 am]

Billing code 3395-F3-P